DEPARTMENT OF AGRICULTURE

Agricultural Marketing Service

[No. LS-03-02]

Notice of Request for Emergency Approval of a New Information Collection

AGENCY: Agricultural Marketing Service, USDA.

ACTION: Notice and request for comments; extension of comment period.

SUMMARY: On November 21, 2002, the Agricultural Marketing Service (AMS) published a “Notice of Request for Emergency Approval of a New Information Collection” in accordance with the Paperwork Reduction Act of 1995 (44 U.S.C. Chapter 35). This notice announced that AMS was requesting emergency approval from the Office of Management and Budget (OMB) for the new information collection, “Interim Voluntary Country of Origin Labeling of Beef, Lamb, Pork, Fish, Perishable Agricultural Commodities, and Peanuts Under the Agricultural Marketing Act of 1946.” AMS is extending the comment period to February 21, 2003, because several industry trade organizations requested additional time to file comments. A closing date is necessary for burden comments in order to receive OMB emergency approval.

DATES: Comments must be received by February 21, 2003.

ADDRESSES: Send written comments to: (1) Country of Origin Labeling Program, Agricultural Marketing Service, USDA, STOP 0249, Room 2092-S, 1400 Independence Avenue, SW., Washington, DC 20250-0249, or fax to (202) 720-3499, or send by e-mail to cool@usda.gov; (2) Office of Management and Budget, New Executive Office Building, 725 17th Street, NW., Room 725, Washington, DC 20503, Attention: Desk Officer; and to (3) Clearance Officer, USDA-OCIO, Room 404-W, Jamie L. Whitten Building, STOP 7602, 1400 Independence Avenue, SW., Washington, DC 20250-7602.

All comments will become a matter of public record. Comments will be available for public inspection from the Agricultural Marketing Service (AMS) at the above address and over the Agency's Web site at: http://www.ams.usda.gov/cool/.

FOR FURTHER INFORMATION CONTACT: Eric Forman, Associate Deputy Administrator, Fruit and Vegetable Programs, AMS, USDA, by phone on: (202) 690-0262, or via e-mail at: eric.forman@usda.gov; or William Sessions, Associate Deputy Administrator, Livestock and Seed Program, AMS, USDA, by phone on: (202) 720-5705, or via e-mail at: william.sessions@usda.gov. Additional information may also be obtained over the Agency's Web site at: http://www.ams.usda.gov/cool/.

SUPPLEMENTARY INFORMATION: On November 21, 2002, the Agricultural Marketing Service published a notice and request for comments in the Federal Register (67 FR 70205), entitled, “Notice of Request for Emergency Approval of a New Information Collection,” in accordance with the Paperwork Reduction Act of 1995 (44 U.S.C. Chapter 35). This notice outlined the Agency's estimates of the burden on respondents relating to the notice published in the Federal Register (67 FR 63367) on October 11, 2002, entitled, “Establishment of Guidelines for the Interim Voluntary Country of Origin Labeling of Beef, Lamb, Pork, Fish, Perishable Agricultural Commodities, and Peanuts under the Agricultural Marketing Act of 1946” (7 U.S.C. 1621 et seq.). Submissions concerning any information related to the implementation of these “Voluntary Guidelines” may still be submitted through April 9, 2003.

The comment period for the “Notice of Request for Emergency Approval of a New Information Collection” was originally scheduled to end on January 21, 2003. However, several industry trade organizations requested additional time to study the notice to develop more meaningful comments. Although a closing date for burden comments is needed to receive emergency OMB approval of the new collection, AMS has determined that there is sufficient justification for extending the comment period 30 days until February 21, 2003.

Dated: January 16, 2003.
A.J. Yates,
Administrator.

[FR Doc. 03-1432 Filed 1-17-03; 2:27 pm]

BILLING CODE 3410-02-P